DEPARTMENT OF THE INTERIOR

National Park Service

[N6568; NPS-WASO-NAGPRA-NPS0041192; PPWOCRADN0-PCU00RP14.R50000]

Notice of Inventory Completion: Utah Field House of Natural History State Park Museum, Vernal, UT

AGENCY: National Park Service, Interior.

ACTION: Notice.

SUMMARY: In accordance with the Native American Graves Protection and Repatriation Act (NAGPRA), the Utah Field House of Natural History State Park Museum (UFHNHSPM) has completed an inventory of human remains and associated funerary objects and has determined that there is a cultural affiliation between the human remains and associated funerary objects and Indian Tribes or Native Hawaiian organizations in this notice.

DATES: Repatriation of the human remains and associated funerary objects in this notice may occur on or after December 17, 2025.

ADDRESSES: Send written requests for repatriation of the human remains and associated funerary objects in this notice to John Foster, Museum Curator, Utah Field House of Natural History State Park Museum, 496 East Main Street, Vernal, UT 84078, email johnfoster@utah.gov.

SUPPLEMENTARY INFORMATION: This notice is published as part of the National Park Service's administrative responsibilities under NAGPRA. The determinations in this notice are the sole responsibility of the UFHNHSPM and additional information on the determinations in this notice, including the results of consultation, can be found in its inventory or related records. The National Park Service is not responsible for the determinations in this notice.

Abstract of Information Available

Based on the information available human remains representing at least 26 individuals have been reasonably identified. The three associated funerary objects are two mats and one cloak associated with the cranial remains of one individual.

On indeterminate dates beginning circa 1950s numerous NAGPRA objects were recovered from private property throughout Northeastern Utah. These objects were subsequently donated to the UFHNHSPM as part of individual or family donations. The Utah Field House Museum retained the human remains as culturally unidentifiable until January 2024 when they were reclassified as culturally identifiable based on the information available and the results of consultation, cultural affiliation is reasonably identified by the geographical location or acquisition history of the human remains described in this notice. No known provenience is available for the human remains; however, it is reasonably presumed that the individuals originated from locations based on the acquisition history. No known individual was identified. The associated funerary objects are identified in the UFHNHSPM accession and catalog records.

Cultural Affiliation

Based on the information available and the results of consultation, cultural affiliation is reasonably identified by the geographical location or acquisition history of the human remains and associated funerary objects described in this notice.

Determinations

The UFHNHSPM has determined that:

• The human remains described in this notice represent the physical remains of at least 26 individuals of Native American ancestry.

• The three objects described in this notice are reasonably believed to have been placed intentionally with or near individual human remains at the time of death or later as part of the death rite or ceremony.

• There is a connection between the human remains and associated funerary objects described in this notice and the Ute Indian Tribe of the Uintah & Ouray Reservation, Utah.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after December 17, 2025. If competing requests for repatriation are received, the UFHNHSPM must determine the most appropriate requestor prior to repatriation. Requests for joint repatriation of the human remains and associated funerary objects are considered a single request and not competing requests. The UFHNHSPM is responsible for sending a copy of this notice to the Indian Tribes and Native Hawaiian organizations identified in this notice.

Authority: Native American Graves Protection and Repatriation Act, 25 U.S.C. 3003, and the implementing regulations, 43 CFR 10.10.

Dated: September 18, 2025.
Melanie O'Brien,
Manager, National NAGPRA Program.

[FR Doc. 2025-19963 Filed 11-14-25; 8:45 am]

BILLING CODE 4312-52-P